NUCLEAR REGULATORY COMMISSION

[Docket Nos. 52-018 and 52-019; NRC-2008-0170]

Combined Licenses at William States Lee III Nuclear Station Site, Units 1 and 2; Duke Energy Carolinas, LLC

AGENCY: Nuclear Regulatory Commission.

ACTION: Draft environmental impact statement; public meeting and request for comments.

SUMMARY: Notice is hereby given that the U.S. Nuclear Regulatory Commission (NRC) and the U.S. Army Corps of Engineers (USACE), Charleston District, have published NUREG-2111, “Draft Environmental Impact Statement for Combined Licenses (COL) for William States Lee III Nuclear Station Units 1 and 2 [Lee Nuclear Station].” The NRC plans to hold a public meeting to present an overview of the draft Environmental Impact Statement (EIS) and accept public comments.

DATES: Submit comments by March 6, 2012. The NRC staff is able to ensure consideration only for comments received on or before this date.

ADDRESSEES: Please include Docket ID NRC-2008-0170 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2008-0170. Address questions about NRC dockets to Carol Gallagher, telephone: (301) 492-3668; email: Carol.Gallagher@nrc.gov.

• Mail comments to: Cindy Bladey, Chief, Rules, Announcements, and Directive Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852. NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or via email to pdr.resource@nrc.gov. The draft EIS is available electronically under ADAMS Accession Number ML113430094.

• Federal Rulemaking Web Site: Public comments and supporting materials related to this notice can be found at http://www.regulations.gov by searching on Docket ID NRC-2008-0170.

In addition, the draft EIS can be accessed online at the NRC's William States Lee III Nuclear Site Web page at http://www.nrc.gov/reactors/new-reactors/col/lee.html. The Cherokee County Public Library, 300 E. Rutledge Avenue, Gaffney, SC 29340, has also agreed to make the draft EIS available to the public.

FOR FURTHER INFORMATION CONTACT: Ms. Sarah Lopas, Project Manager, Environmental Projects Branch 1, Division of New Reactor Licensing, Office of New Reactors, U.S. Nuclear Regulatory Commission, Washington, DC 20555-0001; telephone: (301) 415-1147; email: Sarah.Lopas@nrc.gov.

Background

The Lee Nuclear Station Site is located in Cherokee County, South Carolina. The application for the COLs was submitted by letter dated December 12, 2007, pursuant to Title 10 of the Code of Federal Regulations, Part 52. A notice of receipt and availability of the application, which included the environmental report, was published in the Federal Register on January 28, 2008 (73 FR 6218). A notice of acceptance for docketing of the COL application was published in the Federal Register on February 29, 2008 (73 FR 11156). A notice of intent to prepare a draft environmental impact statement (EIS) and to conduct the scoping process was published in the Federal Register on March 20, 2008 (73 FR 15009). A notice of intent to conduct a supplemental scoping process for the supplement to the environmental report was published in the Federal Register on May 24, 2010 (75 FR 28822).

Public Meeting

The NRC staff will hold two public meetings to present an overview of the draft EIS and to accept public comments on the document on Thursday, January 19, 2012, at Restoration Church International, 1905 N. Limestone Street, Gaffney, SC 29340. The first meeting will convene at 1 p.m. and will continue until 4 p.m., as necessary. The second meeting will convene at 7 p.m., with a repeat of the overview portions of the first meeting, and will continue until 10 p.m., as necessary. The meetings will be transcribed and will include: (1) A presentation of the contents of the draft EIS; and (2) the opportunity for interested government agencies, organizations, and individuals to provide comments on the draft report. To be considered, comments must be provided during the transcribed public meeting either orally or in writing. Additionally, the NRC and USACE staff will host informal discussions one hour before the start of each meeting during which members of the public may meet and talk with staff members on an informal basis. No formal comments on the draft EIS will be accepted during the informal discussions.

Persons may pre-register to attend or present oral comments at the meetings by contacting Ms. Sarah Lopas by telephone at 1 (800) 368-5642, extension 1147, or via email to Sarah.Lopas@nrc.gov no later than January 17, 2012. Members of the public may also register to speak at the meetings within 15 minutes of the start of each meeting. Individual oral comments may be limited by the time available, depending on the number of persons who register. Members of the public who have not registered may also have an opportunity to speak if time permits. If special equipment or accommodations are needed to attend or present information at the public meetings, the need should be brought to Ms. Sarah Lopas's attention no later than January 12, 2012, to provide the NRC staff adequate notice to determine whether the request can be accommodated.

The meeting agendas will be available on the NRC's Public Meeting Schedule Web site at http://www.nrc.gov/public-involve/public-meetings/index.cfm no later than 10 days prior to the meetings. Any changes to the meeting agendas will be available on the NRC's Public Meeting Schedule.

Dated at Rockville, Maryland, this 12th day of December, 2011.
For the Nuclear Regulatory Commission.
David B. Matthews,
Director, Division of New Reactor Licensing, Office of New Reactors.

[FR Doc. 2011-32649 Filed 12-20-11; 8:45 am]

BILLING CODE 7590-01-P